DEPARTMENT OF THE INTERIOR

Bureau of Land Management

[AZA 18465]

Public Land Order No. 7474; Extension of Public Land Order No. 6493; Arizona

AGENCY: Bureau of Land Management, Interior.

ACTION: Public land order.

SUMMARY: This order extends Public Land Order No. 6493 for an additional 20-year period. This extension is necessary to continue the protection of the Bureau of Prisons North Phoenix Facility.

EFFECTIVE DATE: December 20, 2003.

FOR FURTHER INFORMATION CONTACT: Jim Andersen, BLM Phoenix Field Office, 2015 West Deer Valley Road, Phoenix, Arizona 85027, 623-580-5570.

By virtue of the authority vested in the Secretary of the Interior by section 204 of the Federal Land Policy and Management Act of 1976, 43 U.S.C. 1714 (1994), it is ordered as follows:

1. Public Land Order No. 6493, which withdrew land for the protection of a portion of the Bureau of Prisons North Phoenix Facility, is hereby extended for an additional 20-year period following its date of expiration.

2. This withdrawal will expire 20 years from the effective date of this order unless, as a result of a review conducted before the expiration date pursuant to section 204(f) of the Federal Land Policy and Management Act of 1976, 43 U.S.C. 1714(f) (1994), the Secretary determines that the withdrawal shall be extended.

Dated: December 13, 2000.
Sylvia V. Baca,
Assistant Secretary of the Interior.

[FR Doc. 00-32643 Filed 12-21-00; 8:45 am]

BILLING CODE 4410-05-P